DEPARTMENT OF COMMERCE

National Oceanic and Atmospheric Administration

RIN 0648-XA982

Caribbean Fishery Management Council; Public Meetings

AGENCY: National Marine Fisheries Service (NMFS), National Oceanic and Atmospheric Administration (NOAA), Commerce.

ACTION: Notice of public meetings.

SUMMARY: The Caribbean Fishery Management Council's Scientific and Statistical Committee (SSC) and the Advisory Panel (AP) will hold meetings.

DATES: The SSC will meet on March 14-15, 2012. The AP will meet on March 15, 2012, concurrently with the SSC during the morning session, and then will meet separately during the afternoon session to discuss the three presentations given during the morning session. See SUPPLEMENTARY INFORMATION for specific dates and times.

ADDRESSES: The meetings will be held at the Embassy Suites Hotel, Tartak St., Carolina, Puerto Rico.

FOR FURTHER INFORMATION CONTACT: Caribbean Fishery Management Council, 268 Muñoz Rivera Avenue, Suite 1108, San Juan, Puerto Rico 00918-1920, telephone: (787) 766-5926.

SUPPLEMENTARY INFORMATION: The SSC will meet to discuss the items contained in the following agenda:

March 14, 2012—9 a.m.

Call to order

Roll Call

Monitoring of ACLs

1. SSC Review of fishery monitoring programs http://www.mragamericas.com/wp-content/uploads/2010/03/MRAG-EDF-Guiding-Principles-for-Monitoring-Programs-FINAL.pdf

a. How to apply this to ACL monitoring

b. Timeliness (e.g. 60 days for data submission)

c. Minimum data to be collected

d. Commercial and recreational landings

e. Guidance that can or should be used

f. What is optimal

g. Recommendations form the SSC on how to monitor ACLs

2. Establish Research Needs Sub-committee to address priority research needs for the next 5 years. Update on status of overfished species and issues affecting rebuilding of specific species/species units.

3. Deep Water Queen Conch Assessment

Joint Meeting SSC and AP

March 15, 2012—9 a.m.-12 noon

4. Review of SEDAR 26 Complete Assessment Reports for queen and silk snappers and red tail parrotfish (http://www.sefsc.noaa.gov/sedar/Sedar_Workshops.jsp?WorkshopNum=26)

5. Discussion of options paper on parrotfish size and trip limits

6. Data needs and recommendations on study design to determine status of parrotfish populations on St. Croix

7. Review information needs for SEDAR 30 (2012) including recommendations on how to gather information on species designated for assessment: blue tang, queen triggerfish

March 15, 2012-1 p.m.—5 p.m.-SSC meeting continues

Old business

New business

Next meeting

Adjourn

The AP will reconvene during the afternoon from 1 p.m. to 5 p.m. to discuss the three presentations given during the morning session.

The meetings are open to the public, and will be conducted in English. Simultaneous interpretation (English/Spanish) will be provided for the AP meeting. Fishers and other interested persons are invited to attend and participate with oral or written statements regarding agenda issues.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone: (787) 766-5926, at least 5 days prior to the meeting date.

Dated: February 7, 2012.
Tracey L. Thompson,
Acting Director, Office of Sustainable Fisheries, National Marine Fisheries Service.

[FR Doc. 2012-3142 Filed 2-9-12; 8:45 am]

BILLING CODE 3510-22-P